ENVIRONMENTAL PROTECTION AGENCY

40 CFR Part 52

[NV 045-0070b; FRL-7548-1]

Revisions to the Nevada State Implementation Plan, Clark County Air Quality Management Board

AGENCY: Environmental Protection Agency (EPA).

ACTION: Proposed rule.

SUMMARY: EPA is proposing to approve revisions to the Clark County Air Quality Management Board (CCAQMB) portion of the Nevada State Implementation Plan (SIP). The revisions concern the emission of particulate matter (PM-10) from residential wood combustion. We are proposing to approve the local rules (building code provisions) that regulate this emission source under the Clean Air Act as amended in 1990 (CAA or the Act).

DATES: Any comments on this proposal must arrive by October 8, 2003.

ADDRESSES: Mail comments to Andy Steckel, Rulemaking Office Chief (AIR-4), U.S. Environmental Protection Agency, Region IX, 75 Hawthorne Street, San Francisco, CA 94105; steckel.andrew@epa.gov.

You can inspect a copy of the submitted rule (building code provisions) revisions and EPA's technical support document (TSD) at our Region IX office during normal business hours. You may also see a copy of the submitted provisions and TSD at the following locations:

Air and Radiation Docket and Information Center, U.S. Environmental Protection Agency, (Mail Code 6102T), Room B-102, 1301 Constitution Avenue, NW., Washington, DC. 20460.

Nevada Division of Environmental Protection, 333 West Nye Lane, Room 138, Carson City, NV 89706.

Clark County Air Quality Management Board, 500 South Grand Central Parkway, Las Vegas, NV 89155.

FOR FURTHER INFORMATION CONTACT: Al Petersen, Rulemaking Office (AIR-4), U.S. Environmental Protection Agency, Region IX; (415) 947-4118.

SUPPLEMENTARY INFORMATION: This proposal addresses the approval of local Clark County Building Code, section 3708; City of Las Vegas Building Code, section 3708; City of North Las Vegas Building Code, section 13.16.150; City of Henderson Building Code section 15.40.010. In the Rules section of this Federal Register, we are approving these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: July 29, 2003.
Wayne Nastri,
Regional Administrator, Region IX.

[FR Doc. 03-22646 Filed 9-5-03; 8:45 am]

BILLING CODE 6560-50-P